DEPARTMENT OF HEALTH AND HUMAN SERVICES

Office of the Secretary

Findings of Research Misconduct

AGENCY: Office of the Secretary, HHS.

ACTION: Notice.

SUMMARY: Notice is hereby given that the Office of Research Integrity (ORI) and the Assistant Secretary for Health have taken final action in the following case:

Ryan M. Wolfort, M.D., Ph.D., Louisiana State University Health Sciences Center—Shreveport : Based on the report of an investigation conducted by Louisiana State University Health Sciences Center—Shreveport (LSUHSC-S) and additional analysis conducted by ORI in its oversight review, the U.S. Public Health Service (PHS) found that Dr. Ryan M. Wolfort, who was a House Officer in the Department of Surgery, and a former graduate student, Department of Molecular and Cellular Physiology, LSUHSC-S, engaged in research misconduct in the reporting of research supported by National Heart, Lung, and Blood Institute (NHLBI), National Institutes of Health (NIH), grants R01 HL26441 and P01 HL55552.

Respondent's research misconduct related to his dissertation research as a graduate student, which he undertook at the same time that he also was serving as a House Officer at LSUHSC-S. ORI acknowledges Dr. Wolfort's cooperation with the LSUHSC-S misconduct proceedings.

PHS found that Dr. Wolfort engaged in research misconduct by falsifying and fabricating data reported in three publications ¹ and one manuscript ² that had been submitted for publication, reviewed, and returned for revision. Specifically, Dr. Wolfort falsified and fabricated data reported in research examining the contribution of immune mechanisms to early oxidative stress and endothelial dysfunction in mice with induced dietary hypercholesterolemia by:

¹ Wolfort, R.M., Stokes, K.Y., & Granger, D.N. “CN4+ T lymphocytes mediate hypercholesterolemia-induced endothelial dysfunction via a NAD(P)H oxidase-dependent mechanism.” Am J Physiol Heart Circ Physiol 294:H2619-H2626, 2008; hereafter referred to as “paper 1.” Identified for retraction.

Wolfort, R.M., Manriquez, R., Stokes, K.Y., & Granger, D.N. “Platelet-derived RANTES mediates hypercholesterolemia-induced superoxide production and endothelial dysfunction.” Arterioscler. Thromb. Vasc. Biol. Vol. 28 (pages unavailable), as Epub 2008, July 17; hereafter referred to as “paper 2.” Identified for retraction.

Wolfort, R.M., Stokes, K.Y., & Granger, D.N. “Immune cell-mediated endothelial cell dysfunction during hypercholesterolemia involves interferon-γ dependent signaling.” Am J Physiol Heart Circ Physiol, as Epub 2008, September 5; hereafter referred to as “paper 3.” Retracted in Am J Physiol Heart Circ Physiol 295(5):H2219, 2008 November.

² Manuscript submitted to the journal Free Radicals in Biology and Medicine, by Ryan M. Wolfort, Katherine C. Wood, Robert P. Hebbel, and Neil Granger, “Mechanisms underlying the vasomotor dysfunction in sickle transgenic mice,” Ms Number FRBM-D-08-00454; hereafter referred to as the “FRBM” manuscript.

1. Admittedly fabricating tabulations and the associated statistical analyses of RT-PCR data on Nox-2 mRNA expression in the three publications and the manuscript;

2. Falsifying data and the associated statistical claims, specifically by (a) Admittedly falsifying the measurements of endothelial function by myographic recordings of aortic ring dilation in reaction to vasoactive substances in the three papers and manuscript, (b) admittedly falsifying the measurement of cytokine by cytometric bead assay in paper 3, and (c) falsifying the measurement of superoxide production by cytochrome c reduction in papers 1 and 2, for which the underlying spreadsheet data the Respondent claims were unintentionally misrepresented, massaged, and improperly collated, but for which Respondent acknowledges that the raw data were missing for all three papers, admittedly because he intentionally erased files and discarded notebooks.

Dr. Wolfort has entered into a Voluntary Exclusion Agreement in which he has voluntarily agreed, for a period of two (2) years, beginning on July 13, 2009:

(1) To exclude himself from any contracting or subcontracting with any agency of the United States Government and from eligibility or involvement in nonprocurement programs of the United States pursuant to HHS' Implementation (2 CFR part 276 et seq.) of OMB Guidelines to Agencies on Government wide Debarment and Suspension (2 CFR, part 180); and

(2) To exclude himself from serving in any advisory capacity to PHS, including but not limited to service on any PHS advisory committee, board, and/or peer review committee, or as a consultant.

FOR FURTHER INFORMATION CONTACT: Director, Division of Investigative Oversight, Office of Research Integrity, 1101 Wootton Parkway, Suite 750, Rockville, MD 20852. (240) 453-8800.

John Dahlberg,
Director, Division of Investigative Oversight, Office of Research Integrity.

[FR Doc. E9-19795 Filed 8-17-09; 8:45 am]

BILLING CODE 4150-31-P